DEPARTMENT OF AGRICULTURE

Submission for OMB Review; Comment Request

September 14, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Select Agent Registration.

OMB Control Number: 0579-0213.

Summary of Collection: The Public Health Security and Bioterrorism Preparedness and Response Act of 2002 were signed into law June 12, 2002. This law is designed to prevent, prepare for and respond to bioterrorism and other public health emergencies. The law requires individuals possessing agents or toxins deemed a severe threat to animal or plant health, or to animal or plant products, to be registered with the Secretary of Agriculture unless they have been specifically exempted. The registration process entail the use of a number of separate forms designed to obtain critical information concerning individuals or facilities in possession of certain agents or toxins, as well as the specific characteristics of the agents or toxins—including name, strain, and genetic information.

Need and Use of the Information: The Animal and Plant Health Inspection Service (APHIS) will collect information to determine the biosafety level of an entity as well as the entity's biosecurity situation. The collected information will also be used to ensure that appropriate safeguard, containment, and disposal requirements commensurate with the risk of the agent or toxin are present at the entity, thus preventing access to such agents and toxins for use in domestic or international terrorism. If the information were not collected, APHIS efforts to more aggressively prevent a bioterrorism event in the United States would be compromised.

Description of Respondents: Business or other for profit; State, local and tribal government; Not-for-profit institutions

Number of Respondents: 545.

Frequency of Responses: Recordkeeping; Reporting: On occasion.

Total Burden Hours: 938.

Ruth Brown,
Departmental Information Collection Clearance Officer.

[FR Doc. 05-18629 Filed 9-19-05; 8:45 am]

BILLING CODE 3410-34-P